TENNESSEE VALLEY AUTHORITY

Meeting of the Regional Resource Stewardship Council; Correction

AGENCY: Tennessee Valley Authority (TVA).

ACTION: Notice of meeting; correction.

SUMMARY: This is a correction to the Federal Register Notice regarding the location for the TVA Regional Resource Stewardship Council (RRSC) meeting on April 26, 2016 that was originally published in the Federal Register on April 8, 2016. This corrects the meeting location noted in the address section of the original Federal Register Notice.

The RRSC was established to advise TVA on its natural resource stewardship activities. Notice of this meeting is given under the Federal Advisory Committee Act (FACA), 5 U.S.C. App. 2.

The meeting agenda includes the following:

1. Introductions

2. Updates on Natural Resources issues

3. Presentations regarding TVA Stewardship Initiatives and Reservoir Release Improvement Program

4. Public Comments

5. Council Discussion

The RRSC will hear opinions and views of citizens by providing a public comment session starting at 10:15 a.m., EDT, on Tuesday, April 26. Persons wishing to speak are requested to register at the door by 9:45 a.m. EDT on Tuesday, April 26 and will be called on during the public comment period. Handout materials should be limited to one printed page. Written comments are also invited and may be mailed to the Regional Resource Stewardship Council, Tennessee Valley Authority, 400 West Summit Hill Drive, WT-9 D, Knoxville, Tennessee 37902.

DATES: The public meeting will be held on Tuesday, April 26, from 8:30 a.m. to 2:30 p.m. EDT.

ADDRESSES: The meeting will be held at the Chattanoogan Hotel, 1201 South Broad Street, Chattanooga, Tennessee 37402, and will be open to the public. Anyone needing special access or accommodations should let the contact below know at least a week in advance.

FOR FURTHER INFORMATION CONTACT: Beth Keel, 400 West Summit Hill Drive, WT-9 D, Knoxville, Tennessee 37902, (865) 632-6113.

Dated: April 8, 2016.
Joseph J. Hoagland,
Vice President, Stakeholder Relations, Tennessee Valley Authority.

[FR Doc. 2016-08592 Filed 4-11-16; 11:15 am]

BILLING CODE 8120-01-P